DEPARTMENT OF DEFENSE

Department of the Army

[Docket ID: USA-2026-HQ-0134]

Proposed Collection; Comment Request

AGENCY: Department of the Army, Department of Defense (DoD).

ACTION: 60-Day information collection notice.

SUMMARY: In compliance with the Paperwork Reduction Act of 1995, the Department of the Army (USA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 13, 2026.

ADDRESSES: You may submit comments, identified by docket number and title, by any of the following methods:

Federal eRulemaking Portal: http://www.regulations.gov. Follow the instructions for submitting comments.

Mail: Department of Defense, Office of the Director of Administration and Management, Privacy, Civil Liberties, and Transparency Directorate, Regulatory Division, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Department of the Army, Office of the Deputy Chief of Staff G-1 (DAIN-PR), 2530 Crystal Dr., 6th Floor Taylor Bldg., Arlington, VA 22202-394, Ms. Dorie Hickson, 571-256-8682.

SUPPLEMENTARY INFORMATION:

Title; Associated Form; and OMB Number: Army Youth Program Evaluation Survey; OMB Control Number 0702-CYSS.

Needs and Uses: The USA is seeking public comment on a proposed information collection designed to conduct an outcome evaluation of its Child, Youth, and School Services (CYSS) Youth Program. This evaluation will formally assess the program's impacts on Soldier mission focus, as well as overall family and youth well-being. To gather this information, a confidential online survey will be administered to two distinct groups of Army parents: those with children participating in the CYSS program and a comparison group with non-participating children. The resulting data will be used to analyze and compare outcomes between the two groups, providing an evidence-based assessment of program effectiveness and guiding future improvements to these critical family support services.

Affected Public: Individuals or households.

Annual Burden Hours: 100.

Number of Respondents: 300.

Responses per Respondent: 2.

Annual Responses: 600.

Average Burden per Response: 10 minutes.

Frequency: Twice. This is planned as a two-timepoint study, with data collections occurring approximately four months apart.

Dated: February 9, 2026.
Stephanie J. Bost,
Alternate OSD Federal Register Liaison Officer, Department of Defense.

[FR Doc. 2026-02728 Filed 2-10-26; 8:45 am]

BILLING CODE 6001-FR-P